NUCLEAR REGULATORY COMMISSION

[NRC-2017-0073]

Non-Light Water Reactor Security Design Considerations

AGENCY: Nuclear Regulatory Commission.

ACTION: Preliminary draft guidance; request for comment.

SUMMARY: The U.S. Nuclear Regulatory Commission (NRC) is issuing for public comment preliminary draft guidance on non-light water reactor security design considerations. The Commission's “Policy Statement on the Regulation of Advanced Reactors” states that the design of advanced reactors should consider safety and security requirements together in the design process such that security issues (e.g., newly identified threats of terrorist attacks) can be effectively resolved through facility design and engineered security features, formulation of mitigation measures, and reduced reliance on human actions. The NRC's preliminary draft guidance document would set forth a set of “security design considerations” that a designer should consider while developing the facility design.

DATES: Submit comments by April 27, 2017. Comments received after this date will be considered if it is practical to do so, but the NRC is able to ensure consideration only for comments received on or before this date. Because this is a preliminary draft, comments will not be responded to individually but will be considered by the NRC staff when developing the draft guidance document.

ADDRESSES: You may submit comments by any of the following methods (unless this document describes a different method for submitting comments on a specified subject):

• Federal Rulemaking Web site: Go to http://www.regulations.gov and search for Docket ID NRC-2017-0073. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12H08, U.S. Nuclear Regulatory Commission, Washington, DC 20555-0001.

For additional direction on accessing information and submitting comments, see “Obtaining Information and Submitting Comments” in the SUPPLEMENTARY INFORMATION section of this document.

FOR FURTHER INFORMATION CONTACT: George Tartal, Office of New Reactors, U.S. Nuclear Regulatory Commission, Washington, DC 20555-0001; telephone: 301-415-0016, email: George.Tartal@nrc.gov.

SUPPLEMENTARY INFORMATION:

I. Obtaining Information and Submitting Comments

A. Obtaining Information

Please refer to Docket ID NRC-2017-0073 when contacting the NRC about the availability of information regarding this action. You may obtain publicly-available information related to this action, by any of the following methods:

• Federal Rulemaking Web site: Go to http://www.regulations.gov and search for Docket ID NRC-2017-0073.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The preliminary draft guidance document is available in ADAMS under Accession No. ML16305A328.

• NRC's PDR: You may examine and purchase copies of public documents at the NRC's PDR, Room O1-F21, One White Flint North, 11555 Rockville Pike, Rockville, Maryland 20852.

B. Submitting Comments

Please include Docket ID NRC-2017-0073 in your comment submission.

The NRC cautions you not to include identifying or contact information that you do not want to be publicly disclosed in your comment submission. The NRC posts all comment submissions at http://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment preliminary draft guidance on non-light water reactor security design considerations. This document would set forth a set of “security design considerations” that a designer should consider while developing the facility design. Consistent with the Commission's “Policy Statement on the Regulation of Advanced Reactors,” these considerations should be considered early in the design process. The preliminary draft guidance document is available in ADAMS under Accession No. ML16305A328.

After receiving and considering comments, the NRC staff intends to include the security design considerations in a guidance document that is being developed for advanced reactor design criteria for non-light water reactors (non-LWRs). These design criteria address the safety aspects of non-LWRs. The NRC staff intends that the guidance document will include both safety design criteria and security design considerations.

Please note that some of the referenced documents within the security design considerations are not publicly available because they contain safeguards information, security-related information, or other types of information that the NRC cannot release to the public.

III. Backfitting and Issue Finality

This preliminary draft guidance would set forth a set of security design considerations that a designer should consider while developing the facility design. These considerations, if adequately implemented through detailed design, along with the adequate implementation of administrative controls and security programs, are one way to protect a nuclear power reactor against the design basis threat for radiological sabotage. These considerations do not limit designers or applicants from applying other methods or approaches in designing engineered systems to perform intended security functions.

The purpose of this preliminary draft guidance is to assist the NRC staff and future applicants. The security design considerations are not regulatory requirements. Parts 50 and 52 of title 10 of the Code of Federal Regulations (10 CFR), require that an application for an operating license, design certification, combined license, standard design approval, or manufacturing license, describe how the proposed facility would comply with the physical and cyber security requirements in §§ 73.55 and 54, respectively. The security design considerations provide guidance intended to support the resolution of security issues through the facility design.

This preliminary draft guidance, if finalized, for example, in a regulatory guide, would not constitute backfitting as defined in 10 CFR 50.109 (the Backfit Rule) and would not otherwise be inconsistent with the issue finality provisions in 10 CFR part 52, “Licenses, Certifications and Approvals for Nuclear Power Plants.” This guidance, if finalized, would represent the first NRC guidance on this subject. Issuance of new guidance, by itself, does not represent backfitting unless the NRC intends to impose the guidance on existing licensees and currently-approved design certification rules issued under 10 CFR part 52. The NRC does not have such an intention.

Existing licensees and applicants of final design certification rules would not be required to comply with this guidance, unless the licensee or design certification rule applicant seeks a voluntary change to its licensing basis with respect to resolving security matters through facility design.

Applicants and potential applicants are not, with certain exceptions, protected by either the Backfit Rule or any issue finality provisions under 10 CFR part 52. Neither the Backfit Rule nor the issue finality provisions under 10 CFR part 52—with certain exceptions discussed in the next paragraph—were intended to apply to every NRC action which substantially changes the expectations of current and future applicants. Therefore, this guidance, if finalized and imposed on applicants, would not represent backfitting (except as discussed below).

The exceptions to the general principle are applicable whenever a combined license applicant references a 10 CFR part 52 license (i.e., an early site permit or a manufacturing license) and/or 10 CFR part 52 regulatory approval (i.e., a design certification rule or standard design approval). The NRC does not, at this time, intend to impose the positions represented in this preliminary draft guidance in a manner that is inconsistent with any issue finality provisions in the 10 CFR part 52 licenses and regulatory approvals. If, in the future, the NRC seeks to impose a position in this guidance in a manner which does not provide issue finality as described in the applicable issue finality provision, then the NRC must address the criteria for avoiding issue finality as described in the applicable issue finality provision.

Dated at Rockville, Maryland, this 3rd day of March, 2017.
For the Nuclear Regulatory Commission.
Michael E. Mayfield,
Deputy Director (Acting), Office of New Reactors.

[FR Doc. 2017-04873 Filed 3-10-17; 8:45 am]

BILLING CODE 7590-01-P